DEPARTMENT OF TRANSPORTATION

Federal Aviation Administration

Public Notice of Availability of a Finding of No Significant Impact (FONSI)/Record of Decision (ROD) on a Final Environmental Assessment (FEA) for the Proposed Federal Action at Toledo Express Airport, Swanton, OH

AGENCY: Federal Aviation Administration (FAA), DOT.

ACTION: Notice of availability.

SUMMARY: The FAA is issuing this notice to advise the pubic of the availability of the FONSI/ROD on an FEA for a proposed Federal action at Toledo Express Airport, Swanton, Ohio. The FONSI/ROD states that the proposed project is consistent with the National Environmental Policy Act of 1969 and will not significantly affect the quality of the environment. Therefore, the preparation of an Environmental Impact Statement (EIS) is not required.

The FEA evaluated Toledo Express Airport's proposal to implement measure LU-13, the purchase of Swanton Township School, of the amended Final Part 150 Noise Compatibility Program and approval of federal funds through the Airport Improvement Program to purchase the Swanton Township School located at 12035 Airport Highway (State Route 2) in Swanton Township, Lucas County, Ohio.

The FEA and the FONSI/ROD are available for review during normal business hours at the following locations: Toledo-Lucas County Port Authority, Toledo Express Airport, 11013 Airport Highway, Swanton, OH 43558; and FAA Detroit Airports District Office, 11677 South Wayne Road, Suite 107, Romulus, MI 48174.

Due to current security requirements, arrangements must be made with the point of contact prior to visiting these offices.

FOR FURTHER INFORMATION CONTACT: Mr. Kevin Mulcaster, FAA Great Lakes Region, Detroit Airports District Office, 11677 South Wayne Road, Suite 107, Romulus, MI 48174 (734) 229-2915.

Issued in Detroit, Michigan, August 24, 2004.
Irene Porter,
Manager, Detroit Airport District Office, FAA, Great Lakes Region.

[FR Doc. 04-21299 Filed 9-21-04; 8:45 am]

BILLING CODE 4910-13-M